SMALL BUSINESS ADMINISTRATION

[Disaster Declaration #10678 and #10679]

Hawaii Disaster Number HI-00005

AGENCY: U.S. Small Business Administration.

ACTION: Amendment 2.

SUMMARY: This is an amendment of the Presidential declaration of a major disaster for the State of Hawaii (FEMA-1664-DR), dated 10/23/2006.

Incident: Kiholo Bay Earthquake.

Incident Period: 10/15/2006 and continuing through 01/15/2007.

Effective Date: 01/15/2007.

Physical Loan Application Deadline Date: 12/22/2006.

EIDL Loan Application Deadline Date: 07/23/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Hawaii, dated 10/23/2006 is hereby amended to establish the incident period for this disaster as beginning 10/15/2006 and continuing through 01/15/2007.

All other information in the original declaration remains unchanged.

(Catalog of Federal Domestic Assistance Numbers 59002 and 59008)

Herbert L. Mitchell,
Associate Administrator for Disaster Assistance.

[FR Doc. E7-1102 Filed 1-24-07; 8:45 am]

BILLING CODE 8025-01-P